ADVISORY COUNCIL ON HISTORIC PRESERVATION

36 CFR Ch. VIII

Unified Agenda of Federal Regulatory and Deregulatory Actions

Correction

In proposed rule document 04-12485 appearing on page 38134 in the issue of Monday, June 28, 2004, make the following correction:

In the third column, in the file line, the Federal Register document number “04-12435” should read, “04-12485.”

[FR Doc. C4-12485 Filed 6-25-04; 8:45 am]

BILLING CODE 1505-01-D

NUCLEAR REGULATORY COMMISSION

[NUREG-1600]

NRC Enforcement Policy

Correction

In notice document 04-13523 beginning on page 33684 in the issue of Wednesday, June 16, 2004, make the following corrections:

1. On page 33684, in the third column, in the third full paragraph, in the second line “20 CFR” should read “10 CFR”.

2. On the same page, in the same column, in the same paragraph, in the fifth line, “20 CFR” should read “10 CFR”.

[FR Doc. C4-13523 Filed 6-25-04; 8:45 am]

BILLING CODE 1505-01-D

DEPARTMENT OF TRANSPORTATION

Federal Aviation Administration

14 CFR Part 71

[Docket No. FAA-2004-18010; Airspace Docket No. 04-ACE-39]

Modification of Class E Airspace; Broken Bow, NE

Correction

In rule document 04-13836 beginning on page 34060 in the issue of Friday, June 18, 2004, make the following corrections:

1. On page 34061, in the first column, under the Comments Invited heading, in the fourth line from the bottom, “Docket No. FAA-2004-1800” should read, “Docket No. FAA-2004-18010”.

§71.1 [Corrected]

2. On the same page, in §71.1, in the third column, in the second line, “79-mile radius” should read, “7.9-mile radius”.

[FR Doc. C4-13836 Filed 6-25-04; 8:45 am]

BILLING CODE 1505-01-D